DEPARTMENT OF ENERGY

Federal Energy Regulatory Commission

Combined Notice of Filings #1

March 24, 2006.

Take notice that the Commission received the following electric rate filings.

Docket Numbers: ER06-255-002.

Applicants: Midwest Independent Transmission System.

Description: Midwest Independent Transmission System Operator Inc submits a Large Generator Interconnection Agreement among FirstEnergy Generation Corp and American Transmission System, Inc.

Filed Date: 03/15/2006.

Accession Number: 20060324-0039.

Comment Date: 5 p.m. Eastern Time on Wednesday, April 05, 2006.

Docket Numbers: ER06-757-000.

Applicants: Eastman Cogeneration L.P.

Description: Application for blanket authorization, certain waivers and order approving rate schedule on behalf of Eastman Cogeneration, LP.

Filed Date: 03/16/2006.

Accession Number: 20060324-0017.

Comment Date: 5 p.m. Eastern Time on Thursday, April 06, 2006.

Docket Numbers: ER06-758-000.

Applicants: Chambers Cogeneration, Limited Partnership.

Description: Petition of Chambers Cogeneration, LP for order accepting market-based rate schedule for filing and granting waivers of blanket approvals.

Filed Date: 03/16/2006.

Accession Number: 20060324-0018.

Comment Date: 5 p.m. Eastern Time on Thursday, April 06, 2006.

Docket Numbers: ER06-759-000.

Applicants: Selkirk Cogen Partners, L.P.

Description: Petition of Selkirk Cogen Partners, LP for order accepting market-based rate schedule for filing and granting waivers and blanket approvals.

Filed Date: 03/16/2006.

Accession Number: 20060324-0019.

Comment Date: 5 p.m. Eastern Time on Thursday, April 06, 2006.

Docket Numbers: ER06-760-000.

Applicants: North American Energy Credit and Clearing—Risk Management LLC.

Description: North American Energy Credit & Clearing—Risk Management LLC submits its petition for acceptance of initial rate schedule, waivers and blanket authority.

Filed Date: 03/15/2006.

Accession Number: 20060324-0020.

Comment Date: 5 p.m. Eastern Time on Wednesday, April 05, 2006.

Docket Numbers: ER06-761-000.

Applicants: Rumford Paper Company.

Description: Rumford Paper Company submits its Petition for Market-Based Rate Authority and Acceptance of Initial Rate Schedule.

Filed Date: 03/16/2006.

Accession Number: 20060324-0022.

Comment Date: 5 p.m. Eastern Time on Thursday, April 06, 2006.

Docket Numbers: ER06-764-000.

Applicants: The Premcor Refining Group Inc.

Description: The Premcor Refining Group, Inc., submitted an application for market-based authorization and request for waivers and blanket authorizations.

Filed Date: 03/16/2006.

Accession Number: 20060324-0024.

Comment Date: 5 p.m. Eastern Time on Thursday, April 06, 2006.

Docket Numbers: ER06-769-000.

Applicants: New York Independent System Operator, Inc.

Description: New York Independent System Operator Inc submits revisions to its OATT and its Market Administration and Control Area Services Tariff.

Filed Date: 03/17/2006.

Accession Number: 20060324-0050.

Comment Date: 5 p.m. Eastern Time on Friday, April 07, 2006.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-4656 Filed 3-29-06; 8:45 am]

BILLING CODE 6717-01-P